DEPARTMENT OF ENERGY

Western Area Power Administration

Post-2014 Resource Pool-Loveland Area Projects, Final Power Allocation

AGENCY: Western Area Power Administration, DOE.

ACTION: Notice of final power allocation.

SUMMARY: The Western Area Power Administration (Western), a Federal power marketing agency of the Department of Energy (DOE), announces its Post-2014 Resource Pool-Loveland Area Projects, Final Power Allocation developed under the requirements of subpart C-Power Marketing Initiative of the Energy Planning and Management Program (Program) Final Rule, 10 CFR part 905. These final power allocations are established prior to the contractual phase of the process. Firm electric service contracts negotiated between Western and allottees will permit delivery of power from the October 2014 billing period through the September 2024 billing period.

DATES: The Post-2014 Resource Pool-Loveland Area Projects, Final Power Allocation will become effective November 16, 2011, and will remain in effect until September 30, 2024.

ADDRESSES: Information about the Post-2014 Resource Pool-Loveland Area Projects allocation procedures, including comments, letters, and other supporting documents, is available for public inspection and copying at the Rocky Mountain Customer Service Region office, Western Area Power Administration, 5555 East Crossroads Boulevard, Loveland, CO 80538-8986.

SUPPLEMENTARY INFORMATION: Western published the Post-2014 Resource Pool-Loveland Area Projects, Allocation Procedures and Call for Applications (75 FR 78988) on December 17, 2010. These actions implement Subpart C-Power Marketing Initiative of the Program's Final Rule. See 10 CFR part 905, (60 FR 54151, Oct. 20, 1995). The Program, developed in part to implement Section 114 of the Energy Policy Act of 1992, became effective on November 20, 1995. The Program establishes project-specific power resource pools and the allocation of power from these pools to new preference customers. The allocation procedures, in conjunction with the General Power Marketing and Allocation Criteria (51 FR 4012, January 31, 1986), establish the framework for allocating power from the Loveland Area Projects (LAP) resource pool.

Western published its Post-2014 Resource Pool; Loveland Area Projects, Proposed Power Allocation (Proposed Power Allocation) and initiated a public comment period in the Federal Register (76 FR 45551, July 29, 2011). A public comment forum on the Proposed Power Allocation was held August 25, 2011. Public comments were due to Western by September 12, 2011, at 4 p.m. MDT. There were no comments received during the public comment period.

I. Post-2014 Pool Resources

Western will allocate up to 1 percent of the LAP long-term firm hydroelectric resource available as of October 1, 2014. The amount of the resource that will become available on October 1, 2014, is approximately 6.9 megawatts (MW) for the summer season and 6.1 MW for the winter season, and associated energy. This resource pool will be created by reducing existing customers' allocations by up to 1 percent.

II. Final Power Allocation

Western received seven applications for the Post-2014 Resource Pool; Loveland Area Projects. Western determined that one applicant does not meet the Post-2014 Resource Pool; Loveland Area Projects, General Eligibility Criteria. The resource pool for capacity and energy will be allocated proportionately by season to the six qualified applicants based on seasonal loads for the period October 2009 through September 2010. The final power allocations for the six qualified allottees are shown in the table below and are subject to the minimum (100 kilowatts) and maximum allocation (5,000 kilowatts) criteria. The Winter kilowatt hours in the table below have been revised since publication of the Proposed Power Allocation to correct a calculation error.

Allottees | Post-2014 LAP resource pool final power allocation: Summer kilowatt hours | Post-2014 LAP resource pool final power allocation: Winter kilowatt hours | Post-2014 LAP resource pool final power allocation: Summer kilowatts | Post-2014 LAP resource pool final power allocation: Winter kilowatts
City of Jetmore, Kansas | 458,186 | 301,817 | 280 | 201
City of Pomona, Kansas | 355,544 | 254,634 | 217 | 169
City of Waterville, Kansas | 257,578 | 191,505 | 157 | 127
Doniphan Electric Cooperative Association, Inc. | 859,388 | 839,670 | 526 | 558
Kaw Valley Electric Cooperative, Inc. | 7,156,517 | 5,561,049 | 4,374 | 3,697
Nemaha-Marshall Electric Cooperative Association, Inc. | 2,215,224 | 1,957,475 | 1,354 | 1,301
Total Resource Pool | 11,302,437 | 9,106,150 | 6,908 | 6,053

By June 1, 2014, each allottee must have firm delivery arrangements in place, to be effective October 1, 2014, unless otherwise agreed to in writing by Western. Western must receive a letter of commitment from each allottee's serving utility or transmission provider by June 1, 2014, confirming that the allottee will be able to receive the benefit of Western's Post-2014 LAP Resource Pool Power Allocation. If Western does not receive the commitment letter by June 1, 2014, unless otherwise agreed in writing by Western, Western will withdraw its offer of a power allocation.

Western does not own transmission in Kansas. Final allocation of the Post-2014 Resource Pool; Loveland Area Projects, is contingent upon Western's contractual arrangements for delivery of Federal power into Kansas.

The final power allocations shown in the table above are based on the LAP marketable resource currently available. If the LAP marketable resource is adjusted in the future, all allocations may be adjusted accordingly.

III. Review Under the National Environmental Policy Act

In compliance with the National Environmental Policy Act of 1969 (NEPA) (42 U.S.C. 4321, et seq.); Council on Environmental Quality Regulations (40 CFR parts 1500-1508); and DOE NEPA Regulations (10 CFR part 1021), Western has determined that this action is categorically excluded from preparing an environmental assessment or an environmental impact statement.

IV. Determination Under Executive Order 12866

Western has an exemption from centralized regulatory review under Executive Order 12866; accordingly, no clearance of this notice by the Office of Management and Budget is required.

Dated: October 7, 2011.
Timothy J. Meeks,
Administrator.

[FR Doc. 2011-26777 Filed 10-14-11; 8:45 am]

BILLING CODE 6450-01-P